FEDERAL MINE SAFETY AND HEALTH REVIEW COMMISSION

Sunshine Act Meeting

January 8, 2007.

TIME AND DATE: 11 a.m., Thursday, January 18, 2007.

PLACE: The Richard V. Backley Hearing Room, 9th Floor, 601 New Jersey Avenue, NW., Washington, DC.

STATUS: Open.

MATTERS TO BE CONSIDERED: The Commission will consider and act upon the following in open session: Secretary of Labor v. San Juan Coal Company, Docket No. CENT 2004-212. (Issues include whether the Administrative Law Judge correctly determined that the operator's violation of 30 CFR 75.400 was not caused by its unwarrantable failure to comply with the standard).

Any person attending this oral argument who requires special accessibility features and/or auxiliary aids, such as sign language interpreters, must inform the Commission in advance of those needs. Subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 07-230 Filed 1-17-07; 11:46 am]

BILLING CODE 6735-01-M